DEPARTMENT OF ENERGY

Federal Energy Regulatory Commission

[Project No. 1494-403]

Grand River Dam Authority; Notice of Application for Amendment of License and Soliciting Comments, Motions To Intervene, and Protests

Take notice that the following hydroelectric application has been filed with the Commission and is available for public inspection:

a. Application Type: Non-Project Use of Project Lands and Waters.

b. Project No.: 1494-403.

c. Date Filed: April 11, 2012.

d. Applicant: Grand River Dam Authority.

e. Name of Project: Pensacola Hydroelectric Project.

f. Location: The docking facilities will be located at Patricia Island on the west edge of Grove, Oklahoma in Delaware County, along the shoreline of the Grand Lake O' Cherokees.

g. Filed Pursuant to: Federal Power Act, 16 U.S.C. 791(a)-825(r).

h. Applicant Contact: Ms. Tamara E. Jahnke, Assistant General Counsel, Grand River Dam Authority, P.O. Box 409, Vinita, Oklahoma 74301, (918) 256-5545.

i. FERC Contact: Lorance Yates at (678) 245-3084; or email: lorance.yates@ferc.gov.

j. Deadline for filing comments, motions to intervene, and protests: June 15, 2012.

All documents may be filed electronically via the Internet. See 18 CFR 385.2001(a)(1)(iii) and the instructions on the Commission's Web site at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Secretary, Federal Energy Regulatory Commission, 888 First Street NE., Washington, DC 20426. Please include the project number (P-1494-403) on any comments, motions, or recommendations filed.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Description of the Application: The Grand River Dam Authority has filed a request for Commission approval to authorize Shoreline, L.L.C., a/k/a Patricia Island Estates (applicant) to install six covered docks and two breakwaters to accommodate 263 watercraft consisting of 166 boats and 97 personal watercraft (PWC). The applicant proposed facilities are to be located in three different areas of the development at Patricia Island Estates. These areas are named Blue Heron Cove, Deer Trail and North Shore. The Blue Heron Cove development would consist of two docks. Dock 1 would be 115 feet long and 36 feet wide and accommodate eight boats. Dock 2 would be 92 feet long and 31 feet wide and accommodate six boats and 12 PWC. The Deer Trail construction would consist of three docks. Dock 3 would be 333 feet long and 36 feet wide and accommodate 25 boats. Dock 4 would be 105 feet long and 36 feet wide and accommodate seven boats and nine PWC. Dock 5 would be 90 feet long and 36 feet wide and accommodate six boats and two PWC. Dock 6 at the North Shore location would consist of one large dock system with six wings attached to a main 25 feet wide walkway that would allow for golf carts to park on the dock structure. This dock system would accommodate 104 boats and 74 PWC. There would be one breakwater on each side of the North Shore dock system. The east side wave attenuator would be eight feet by 150 feet and the west side would be eight feet by 200 feet. The dock structures being requested are intended to accommodate watercraft for Patricia Island Estates property owners. No other services are being planned for the sites.

l. Locations of the Application: A copy of the application is available for inspection and reproduction at the Commission's Public Reference Room, located at 888 First Street NE., Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction at the address in item (h) above. Agencies may obtain copies of the application directly from the applicant.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the particular application.

o. Filing and Service of Documents: Any filing must (1) bear in all capital letters the title “COMMENTS”, “PROTEST”, or “MOTION TO INTERVENE” as applicable; (2) set forth in the heading the name of the applicant and the project number of the application to which the filing responds; (3) furnish the name, address, and telephone number of the person commenting, protesting or intervening; and (4) otherwise comply with the requirements of 18 CFR 385.2001 through 385.2005. All comments, motions to intervene, or protests must set forth their evidentiary basis. Any filing made by an intervenor must be accompanied by proof of service on all persons listed in the service list prepared by the Commission in this proceeding, in accordance with 18 CFR 385.2010.

Dated: May 16, 2012.
Kimberly D. Bose,
Secretary.

[FR Doc. 2012-12449 Filed 5-22-12; 8:45 am]

BILLING CODE 6717-01-P